DEPARTMENT OF TRANSPORTATION

ITS Joint Program Office; Core System Requirements Walkthrough and Architecture Proposal Review Meetings and Webinars; Notice of Public Meeting

AGENCY: Research and Innovative Technology Administration, U.S. Department of Transportation.

ACTION: Notice.

The U.S. Department of Transportation (USDOT) ITS Joint Program Office (ITS JPO) will host two free public meetings with accompanying webinars to discuss the Vehicle to Infrastructure (V2I) Core System Requirements and Architecture Proposal. The first meeting, June 21, 22, and 23, 2011, 9 a.m.-4:30 p.m. at the University of California—Washington Center, 1608 Rhode Island Ave., NW., Washington, DC 20036 (202) 974-6200, will walk through the review of System Requirements Specification and Architecture Proposal. The second meeting will be a review of the System Requirements Specification and Architecture Proposal and will take place on September 19, 20, and 21, 2011, 9 a.m.-4:30 p.m. at the San Jose Garden Inn 1740 North First Street, San Jose, CA 95112 (408) 793-3300. To learn more about the ITS JPO, visit the program's Web site at http://www.its.dot.gov.

The V2I Core System will support applications for safety, mobility, and sustainability for various modes of transportation including passenger vehicles, transit, and heavy trucks. This is the successor to work originally performed under the Vehicle Infrastructure Integration Proof of Concept (VII POC). The Core System supports a distributed, diverse set of applications.

Connected Vehicle research at the USDOT is a multimodal program that involves using wireless communication between vehicles, infrastructure, and personal communications devices to improve safety, mobility, and environmental sustainability. The program is the major research initiative of the ITS JPO which is currently working with the eight major automotive companies to develop vehicle crash warning applications using Dedicated Short Range Communications (DSRC) technology. In addition, the ITS JPO is working to develop of myriad of applications which will use data collected from connected vehicles that can improve safety, mobility and sustainability. There is also connected vehicle-related research in the areas of standards, data collection, certification, policy, road weather, and public transportation.

Persons planning to attend the first public meeting should send their full name, organization, business e-mail address, and meeting number they plan to attend to Adam Hoops at ITS America at Ahopps@ITSA.org by June 17, 2011. Persons planning to attend the second public meeting should send their full name, organization, business e-mail address, and meeting number they plan to attend to Adam Hoops at ITS America at Ahopps@ITSA.org by September 15, 2011. Please note that if you are planning to register for the webinar, please mention which webinar you will be attending. Details about how to participate in the webinars will be e-mailed to you. For additional questions, please contact Adam Hoops at (202) 680-0091.

Issued in Washington, DC, on the 6th day of June 2011.
John Augustine,
Managing Director, ITS Joint Program Office.

[FR Doc. 2011-14537 Filed 6-10-11; 8:45 am]

BILLING CODE 4910-HY-P